DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Industrial Reports (CIR) Program (Wave II—Mandatory and Voluntary).

Form Number(s): M311J, M313N, M313P, M327G, MQ311A, MQ313A, MQ315A, MQ325A, MQ325F, MQ333W, MA311D, MA314Q, MA321T, MA325G, MA333N, MA333P, MA335E, MA335J, and MA336G.

Agency Approval Number: 0607-0395.

Type of Request: Revision of a currently approved collection.

Burden: 10,859 hours.

Number of Respondents: 8,152.

Average Hours per Response: 35 minutes.

Needs and Uses: The U.S. Census Bureau is requesting a revision of the mandatory and voluntary surveys in Wave II of the Current Industrial Reports (CIR) program. The Census Bureau conducts a series of monthly, quarterly, and annual surveys as part of the CIR program. The CIR program focuses primarily on the quantity and value of shipments data of particular products and occasionally with data on production and inventories; unfilled orders, receipts, stocks, and consumption; and comparative data on domestic production, exports, and imports of the products they cover. Due to the large number of surveys in the CIR program, for clearance purposes, the CIR surveys are divided into “waves.” One wave is resubmitted for clearance each year. This year the Census Bureau is submitting mandatory and voluntary surveys of Wave II for clearance.

During the economic census years, years ending in 2 and 7 all voluntary annual surveys are made mandatory. For the 2007 Economic Census the following surveys are converting to mandatory status: MA311D—“Confectionery”, MA333N—“Fluid Power Products for Motion Control (Including Aerospace), and MA336G—“Aerospace Industry”. MA334M was moved to “Consumer Electronics” and MA334Q, “Semiconductors, Electronic Components and Semiconductor Manufacturing Equipment” to another wave. Also, we are discontinuing MQ335C—“Fluorescent Lamp Ballasts” because manufacturing activities are located outside the United States.

Primary users of these data are government and regulatory agencies, business firms, trade associations, and private research and consulting organizations. The Federal Reserve Board (FRB) uses CIR data in its monthly index of industrial production as well as its annual revision to the index. The Bureau of Economic Analysis (BEA) and the Bureau of Labor Statistics (BLS) use the CIR data in the estimate of components of gross domestic product (GDP) and the estimate of output for productivity analysis, respectively. Many government agencies, such as the International Trade Commission, Department of Agriculture, Food and Drug Administration, Department of Energy, Federal Aviation Administration, BEA, and International Trade Administration use the data for industrial analysis, projections, and monitoring import penetration. Private business firms and organizations use the data for trend projections, market analysis, product planning, and other economic and business-oriented analysis. Since the CIR program is the sole, consistent source of information regarding specific manufactured products in the intercensal years, the absence thereof would severely hinder the Federal Government's ability to measure and monitor important segments of the domestic economy, as well as the effect of import penetration.

Affected Public: Business or other for-profit organizations.

Frequency: Monthly, quarterly, and annually.

Respondent's Obligation: This request contains both voluntary and mandatory surveys.

Legal Authority: Title 13 U.S.C., Sections 61, 81, 131, 182, 224, 225.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 18, 2007.
Gwellnar Banks,
Management Analyst, Office of the Chief Information Officer.

[FR Doc. E7-12212 Filed 6-22-07; 8:45 am]

BILLING CODE 3510-07-P